NATIONAL SCIENCE FOUNDATION

Notice of Meeting

In accordance with the Federal Advisory Committee Act (Pub. L. 9463, as amended), the National Science Foundation announces the following meeting:

Name: Committee of Visitors for the Division of Physics, Subcommittee of the Advisory Committee for Mathematical and Physical Sciences

Date and Time:

Wednesday, February 9, 2000, 8:30 a.m.-6 p.m.

Thursday, February 10, 2000, 8:30 a.m.-5 p.m.

Friday, February 11, 2000, 8:30 a.m.-3 p.m.

Place: Room 1235, NSF, 4201 Wilson Blvd., Arlington, VA.

Type of Meeting: Part-Open—(see Agenda, below).

Contact Person: Dr. Joseph L. Dehmer, Director, Division of Physics, National Science Foundation, 4201 Wilson Boulevard, Room 1015.37, Arlington, VA 22230

Purpose of Meeting: To carry out Committee of Visitors (COV) review, including program evaluation, GPRA assessments, and access to privileged materials.

Agenda

Closed: February 9, 10, and 11 from 8:30—6:00 each day—To review the merit review processes covering funding decisions made during the immediately preceding three fiscal years of the Division of Physics programs.

Open: February 11 from 10:30—11:30—To assess the results of NSF program investments in the Division of Physics. This shall involve a discussion and review of results focused on NSF and grantee outputs and related outcomes achieved or realized during the preceding three fiscal years. These results may be based on NSF grants or other investments made in earlier years.

Reason for Closing: During the closed session, the COV will be reviewing proposal actions that will include privileged intellectual property and personal information that could harm individuals if they are disclosed. Such deliberations are exempt under 5 U.S.C. 552B9c)(4) and (6) of the Government in the Sunshine Act.

Karen York,
Committee Management Officer.

[FR Doc. 00-1996 Filed 1-27-00;8:45am]

BILLING CODE 7555-01-M